DEPARTMENT OF ENERGY

Federal Energy Regulatory Commission

[Docket No. CP16-456-000]

Southern Star Central Gas Pipeline, Inc.; Notice of Schedule for Environmental Review of the Shidler Line Abandonment Project

On May 6, 2016, Southern Star Central Gas Pipeline, Inc. (Southern Star) filed an application in Docket No. CP16-456-000 requesting authorization pursuant to Section 7(b) of the Natural Gas Act to abandon certain natural gas pipeline facilities. The proposed project is known as the Shidler Line Abandonment Project (Project), and would abandon about 31.2 miles of 16-inch-diameter natural gas pipeline and remove certain pipeline and aboveground facilities in Osage County, Oklahoma.

On May 19, 2016, the Federal Energy Regulatory Commission (Commission or FERC) issued its Notice of Application for the Project. Among other things, that notice alerted agencies issuing federal authorizations of the requirement to complete all necessary reviews and to reach a final decision on a request for a federal authorization within 90 days of the date of issuance of the Commission staff's Environmental Assessment (EA) for the Project. This instant notice identifies the FERC staff's planned schedule for the completion of the EA for the Project.

Schedule for Environmental Review

Issuance of EA—October 28, 2016

90-day Federal Authorization Decision Deadline—January 26, 2017

If a schedule change becomes necessary, an additional notice will be provided so that the relevant agencies are kept informed of the Project's progress.

Project Description

Southern Star proposes to abandon about 31.2 miles of 16-inch-diameter pipeline and appurtenant facilities of the Shidler Line (also referred to as “Line ME” or the “Blackwell—Cotton Valley Line”), in Osage County, Oklahoma. The abandonment will require cutting and capping of the pipeline just east of the Shidler Town Border and slightly west of the Bowring Meter Station. The pipeline would be cut, capped, and abandoned in place by filling the pipe with grout at two improved road crossings. All associated aboveground facilities would be removed, including two mainline valve settings, three domestic taps, four rectifiers, 14 cathodic protection test stations, and the pipeline markers. The remainder of pipeline facilities would be abandoned in place.

Background

On June 9, 2016, the Commission issued a Notice of Intent to Prepare an Environmental Assessment for the Proposed Shidler Line Abandonment Project and Request for Comments on Environmental Issues (NOI). The NOI was sent to affected landowners; federal, state, and local government agencies; elected officials; environmental and public interest groups; Native American tribes; other interested parties; and local libraries and newspapers. In response to the NOI, the Commission received comment letters from the Oklahoma Archeological Survey, the Oklahoma Natural Heritage Inventory, the Oklahoma Department of Wildlife Conservation, and the Osage Nation. The letters provided occurrence records for listed species, and requested cultural resources surveys and tribal consultations.

Additional Information

In order to receive notification of the issuance of the EA and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Project is available from the Commission's Office of External Affairs at (866) 208-FERC or on the FERC Web site (www.ferc.gov). Using the “eLibrary” link, select “General Search” from the eLibrary menu, enter the selected date range and “Docket Number” excluding the last three digits (i.e., CP16-456), and follow the instructions. For assistance with access to eLibrary, the helpline can be reached at (866) 208-3676, TTY (202) 502-8659, or by email at FERCOnlineSupport@ferc.gov. The eLibrary link on the FERC Web site also provides access to the texts of formal documents issued by the Commission, such as orders, notices, and rule makings.

Dated: September 26, 2016.
Kimberly D. Bose,
Secretary.

[FR Doc. 2016-23678 Filed 9-29-16; 8:45 am]

BILLING CODE 6717-01-P